GENERAL SERVICES ADMINISTRATION

GSA Acquisition Policy Federal Advisory Committee; Notification of Upcoming Web-Based Public Meeting

AGENCY: Office of Government-Wide Policy (OGP), General Services Administration (GSA).

ACTION: Meeting notice.

SUMMARY: GSA is providing notice of a meeting of the GSA Acquisition Policy Federal Advisory Committee (hereinafter “the Committee” or “the GAP FAC”) in accordance with the requirements of the Federal Advisory Committee Act (FACA). This meeting will be open to the public, accessible via webcast. Information on attending and providing written public comment is under the SUPPLEMENTARY INFORMATION section.

DATES: The GAP FAC will hold an open public meeting on Thursday, September 21, 2023, from 3:00 p.m. to 4:00 p.m. Eastern Standard Time (EST).

ADDRESSES: The meeting will be accessible via webcast. Registrants will receive the webcast information before the meeting.

FOR FURTHER INFORMATION CONTACT: Boris Arratia, Designated Federal Officer, OGP, 703-795-0816, or email: boris.arratia@gsa.gov; or Stephanie Hardison, OGP, 202-258-6823, or email: stephanie.hardison@gsa.gov. Additional information about the Committee, including meeting materials and agendas, are available on-line at https://gsa.gov/policy-regulations/policy/acquisition-policy/gsa-acquisition-policy-federal-advisory-committee.

SUPPLEMENTARY INFORMATION:

Purpose of the Meeting

The purpose of this meeting is for the GAP FAC to propose, discuss and vote on committee comments on the Federal Acquisition Regulation (FAR) Council's Proposed Rule on Sustainable Procurement, which is available online at https://www.federalregister.gov/documents/2023/08/03/2023-16012/federal-acquisition-regulation-sustainable-procurement.

Meeting Agenda

• Opening Remarks

• Propose and discuss GAP FAC comments on the FAR Council's Proposed Rule on Sustainable Procurement

• Vote on GAP FAC comments

• Closing Remarks and Adjourn

Meeting Registration

This meeting is open to the public and will be accessible by webcast. Registration information is located on the GAP FAC website: https://www.gsa.gov/policy-regulations/policy/acquisition-policy/gsa-acquisition-policy-federal-advisory-committee. Public attendees who want to attend virtually will need to register no later than 5:00 p.m. EST, on Wednesday, September 20, 2023 to obtain the meeting webcast information. All registrants will be asked to provide their name, affiliation, and email address. After registration, individuals will receive webcast access information details via email.

Public Comments

Written public comments are being accepted via email at gapfac@gsa.gov. To submit a written public comment, please email at gapfac.gsa.gov and include your name, organization name (if applicable).

Jeffrey A. Koses,
Senior Procurement Executive, Office of Acquisition Policy, Office of Government-wide Policy.

[FR Doc. 2023-19197 Filed 9-5-23; 8:45 am]

BILLING CODE 6820-RV-P